DEPARTMENT OF TRANSPORTATION

Federal Aviation Administration

14 CFR Part 39

[Docket No. 2003-CE-36-AD; Amendment 39-13327; AD 2003-20-09]

RIN 2120-AA64

Airworthiness Directives; Stemme GmbH & Co. KG Model STEMME S10-VT Sailplanes

AGENCY: Federal Aviation Administration (FAA), DOT.

ACTION: Final rule; request for comments.

SUMMARY: The FAA is adopting a new airworthiness directive (AD) for all Stemme GmbH & Co. KG Model STEMME S10-VT sailplanes that incorporate a certain gear box. This AD requires you to incorporate flight restrictions into the Limitations Section of the sailplane flight manual and fabricate and install a placard close to the throttle lever indicating these restrictions. This AD is the result of mandatory continuing airworthiness information (MCAI) issued by the airworthiness authority for Germany. We are issuing this AD to prevent the potential for the lower cog wheel in the gear box to rupture, which could result in loss of power and possible loss of control of the sailplane.

DATES: This AD becomes effective on October 20, 2003.

The Director of the Federal Register approved the incorporation by reference of certain publications listed in the regulation as of October 20, 2003.

We must receive any comments on this AD by November 3, 2003.

ADDRESSES: Use one of the following to submit comments on this AD:

• By mail: FAA, Central Region, Office of the Regional Counsel, Attention: Rules Docket No. 2003-CE-36-AD, 901 Locust, Room 506, Kansas City, Missouri 64106.

• By fax: (816) 329-3771.

• By e-mail: 9-ACE-7-Docket@faa.gov. Comments sent electronically must contain “Docket No. 2003-CE-36-AD” in the subject line. If you send comments electronically as attached electronic files, the files must be formatted in Microsoft Word 97 for Windows or ASCII.

You may get the service information identified in this AD from Stemme GmbH & Co. KG, Gustav-Meyer-Allee 25, D-13355 Berlin, Germany; telephone: 49.33.41.31.11.70; facsimile: 49.33.41.31.11.73.

You may view the AD docket at FAA, Central Region, Office of the Regional Counsel, Attention: Rules Docket No. 2003-CE-36-AD, 901 Locust, Room 506, Kansas City, Missouri 64106. Office hours are 8 a.m. to 4 p.m., Monday through Friday, except Federal holidays.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

What Events Have Caused This AD?

The Luftfahrt-Bundesamt (LBA), which is the airworthiness authority for Germany, recently notified FAA that an unsafe condition may exist on all Stemme GmbH & Co. KG Model STEMME S10-VT sailplanes that incorporate a part number 11AG gear box (serial numbers 43YYQ001 through 43YYQ093). The LBA reports two incidents where the lower cog wheels of the affected gear box failed. In both cases, the web of the cog wheel separated from the shaft.

What Are the Consequences if the Condition Is Not Corrected?

This condition, if not prevented, could cause the lower cog wheel in the gear box to rupture, which could result in loss of power and possible loss of control of the sailplane.

Is There Service Information That Applies to This Subject?

Stemme GmbH & Co. KG has issued Stemme Service Bulletin A31-10-065, Am.-Index: 92a, dated February 21, 2003.

What Are the Provisions of This Service Information?

The service bulletin is divided into two parts as follows:

1. Flight manual limitations and placard installation:

—Flight manual limitation: “The operation of the engine will be limited to maximum 100% power (max. continuous power).”

—Flight manual limitation: “Hence the take-off procedure (take-off with take-off power 115%, see section 4.5.2.2. of the Flight Manual) must not be selected. Alternative procedures (i.e., take-off with max. continuous power 100%) are published in the Flight Manual.”

—Placard: Installation of a placard close to the throttle lever with the following: “Operation above 100% continuous power is not allowed! (see SB A31-10-1065).”

2. Replacement of the lower cog wheel (P/N: 43.15.0028) with a modified cog wheel (P/N: 43:15:0043).

What Action Did the LBA Take?

The LBA classified this service bulletin as mandatory and issued German AD Number 2002-389/2, Effective date: April 17, 2003, in order to ensure the continued airworthiness of these sailplanes in Germany.

Was This in Accordance With the Bilateral Airworthiness Agreement?

These Stemme GmbH & Co. KG Model STEMME S10-VT sailplanes are manufactured in Germany and are type-certificated for operation in the United States under the provisions of section 21.29 of the Federal Aviation Regulations (14 CFR 21.29) and the applicable bilateral airworthiness agreement.

Per this bilateral airworthiness agreement, the LBA has kept us informed of the situation described above.

FAA's Determination and Requirements of the Proposed AD

What Has FAA Decided?

We have examined the LBA's findings, reviewed all available information, and determined that AD action is necessary for products of this type design that are certificated for operation in the United States.

Since the unsafe condition described previously is likely to exist or develop on other Stemme GmbH & Co. KG Model STEMME S10-VT sailplanes of the same type design that are registered in the United States, this AD is being issued to prevent the potential for the lower cog wheel in the gear box to rupture, which could result in loss of power and possible loss of control of the sailplane.

What Does This AD Require?

This AD requires you to incorporate restrictions into the Limitations Section of the flight manual and incorporate a placard close to the throttle lever indicating these restrictions. These restrictions and the placard are referenced in Stemme Service Bulletin A31-10-065, Am.-Index: 02a, dated February 25, 2003.

In preparation of this rule, we contacted type clubs and aircraft operators to obtain technical information and information on operational and economic impacts. We did not receive any information through these contacts. If received, we would have included, in the rulemaking docket, a discussion of any information that may have influenced this action.

Why Is the FAA Not Mandating the Cog Wheel Replacement?

We are not mandating the cog wheel replacement (as specified in the service information) in this AD action because of the “bootstrapping requirement.” When we issue an AD that involves requirements affecting flight safety where we do not first provide notice and an opportunity for public comment, then we are only able to include a short-term action that immediately corrects the unsafe condition. The Administrative Procedures Act does not permit combining a long-term requirement with a short-term action when we do not provide prior public comment. We analyze the short-term action and the long-term action separately for justification to bypass public notice.

The FAA may initiate future AD action with public comment to mandate the cog wheel replacement as terminating action for the AFM requirements of this AD. This cog wheel replacement is optional in this AD as terminating action.

How Does the Revision to 14 CFR Part 39 Affect This Proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I Have the Opportunity To Comment Prior to the Issuance of the Rule?

This AD is a final rule that involves requirements affecting flight safety and was not preceded by notice and an opportunity for public comment; however, we invite you to submit any written relevant data, views, or arguments regarding this AD. Send your comments to an address listed under ADDRESSES. Include “AD Docket No. 2003-CE-36-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will This AD Impact Various Entities?

We have determined that this AD will not have federalism implications under Executive Order 13132. This AD will not have a substantial direct effect on the States, on the relationship between the national government and the States, or on the distribution of power and responsibilities among the various levels of government.

Will This AD involve a significant rule or regulatory action?

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-36-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1.The authority citation for part 39 continues to read as follows:

Authority: 49 U.S.C. 106(g), 40113, 44701.

§ 39.13 [Amended]

2. The FAA amends § 39.13 by adding the following new airworthiness directive (AD):

2003-20-09 Stemme GmbH & Co. KG: Amendment 39-13327; Docket No. 2003-CE-36-AD.

When Does This AD Become Effective?

(a) This AD becomes effective on October 20, 2003.

Are Any Other ADs Affected by This Action?

(b) None.

What Sailplanes Are Affected by This AD?

(c) This AD affects all Model STEMME S10-VT sailplanes that:

(1) Incorporate a part number (P/N) 11AG gear box (serial numbers 43YYQ001 through 43YYQ093); and

(2) Are certificated in any category:

What is the Unsafe Condition Presented in This AD?

(d) This AD is the result of mandatory continuing airworthiness information (MCAI) issued by the airworthiness authority for Germany. We are issuing this AD to prevent the potential for the lower cog wheel in the gear box to rupture, which could result in loss of power and possible loss of control of the sailplane.

What Must I Do To Address This Problem?

(e) To address this problem, you must accomplish the following:

Actions | Compliance | Procedures
(1) Incorporate the following flight restrictions into the Limitations Section of the flight manual: (i) “The operation of the engine will be limited to maximum 100% power (max. continuous power).” and (ii) “Hence the take-off procedure (take-off with take-off power 115%, see section 4.5.2.2, of the Flight Manual) must not be selectd. Alternative procedures (i.e., take-off with max. continuous power 100%) are published in the flight Manual.” | Within the next 10 days after October 20, 2003 (the effective date of this AD), unless already accomplished | Either insert a copy of this portion of the AD or Stemme Service Bulletin A31-10-065, Am.-Index: 02a, dated February 25, 2003, into the Limitations Section of this of the AFM. The owner/operator holding at least a private pilot certificate as authorized by section 43.7 Federal Aviation Regulations (14 CFR 43.7) may do this flight manual insertion. Make an entry into the aircraft records showing compliance with these portions of the AD in accordance with section 43.9 of the Federal Aviation regulations (14 CFR 43.9).
(2) Fabricate a placard that incorporates the following words (using at least 1/8-inch letters) and install this placard close to the throttle lever: “Operation above 100% continuous power is not allowed! (see SB A31-10-1065).” | Within the next 10 days after October 20, 2003 (the effective date of this AD), unless already accomplished | No specific procedures are necessary for this action. Stemme Service Bulletin A31-10-065, Am.-Index: 02a, dated February 25, 2003, references this action. The owner/operator holding at least a private pilot certificate as authorized by section 43.7 of the Federal Aviation Regulations (14 CFR the throttle 43.7) may do the placard requirements. Make an entry into the aircraft records showing compliance with these portions of the AD in accordance with section 43.9 of the Federal Aviation (14 CFR 43.9).
(3) As an alternative method of compliance to this AD, replace the lower cog wheel (P/N: 43.15.0028) with a modified cog wheel (P/N: 43:15:0043) | At any time as terminating action for the limitations and placard requirements of this AD | Use the instructions in Stemme Service Bulletin A31-10-065, Am.-Index: 02a, dated February 25, 2003.

Why Is the FAA Not Mandating the Cog Wheel Replacement?

(f) We are not mandating the cog wheel replacement (as specified in the service information) in this AD action because of the “bootstrapping requirement.” When we issue an AD that involves requirements affecting flight safety where we do not first provide notice and an opportunity for public comment, then we are only able to include a short-term action that immediately corrects the unsafe condition.

(1) The Administrative Procedures Act does not permit combining a long-term requirement with a short-term action when we do not provide prior public comment. The short-term action and the long-term action are analyzed separately for justification to bypass public notice.

(2) We may initiate future AD action with public comment to mandate the cog wheel replacement as terminating action for the AFM requirements of this AD. This cog wheel replacement is optional in this AD as terminating action.

What About Alternative Methods of Compliance?

(g) You may request a different method of compliance or a different compliance time for this AD by following the procedures in 14 CFR 39.13. Send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Is There Material Incorporated by Reference?

(h) If you choose to do the replacement required by this AD, then you must use Stemme Service Bulletin A31-10-065, Am.-Index: 02a, dated February 25, 2003. The Director of the Federal Register approved the incorporation by reference of this service bulletin in accordance with 5 U.S.C. 552(a) and 1 CFR part 51. You may get a copy from Stemme GmbH & Co. KG, Gustav-Meyer-Allee 25, D-13355 Berlin, Germany; telephone: 49.33.41.31.11.70; facsimile: 49.33.41.31.11.73. You may review copies at FAA, Central Region, Office of the Regional Counsel, 901 Locust, Room 506, Kansas City, Missouri 64106; or at the Office of the Federal Register, 800 North Capitol Street, NW., suite 700, Washington, DC.

Is There Other Information That Relates to This Subject?

(i) German AD Number 2002-389/2, Effective date: April 17, 2003, also addresses the subject of this AD.

Issued in Kansas City, Missouri, on September 30, 2003.
Michael Gallagher,
Manager, Small Airplane Directorate, Aircraft Certification Service.

[FR Doc. 03-25330 Filed 10-8-03; 8:45 am]

BILLING CODE 4910-13-P